DEPARTMENT OF TRANSPORTATION

Federal Highway Administration

Environmental Impact Statement: Crow Wing and Mille Lacs Counties, MN

AGENCY: Federal Highway Administration (FHWA), DOT.

ACTION: Notice of Intent to Terminate EIS.

SUMMARY: The FHWA is issuing this notice to advise the public that the Environmental Impact Statement (EIS) process for proposed highway improvements to Trunk Highway (TH) 169 in Crow Wing and Mille Lacs Counties, Minnesota is terminated. The original Notice of Intent for this EIS process was published in the Federal Register on July 17, 2000. A Revised Notice of Intent to revise the northern terminus was published in the Federal Register on February 4, 2002.

FOR FURTHER INFORMATION CONTACT: Cheryl Martin, Environmental Engineer, Federal Highway Administration, Galtier Plaza, Suite 500, 380 Jackson Street, St. Paul, Minnesota 55101, Telephone (651) 291-6120; or James Haligren, P.E., Project Manager, Minnesota Department of Transportation—District 3, 1991 Industrial Park Road, Baxter, Minnesota 56425, Telephone (218) 828-5797; (651) 296-9930 TTY.

SUPPLEMENTARY INFORMATION: The FHWA, in cooperation with the Minnesota Department of Transportation (Mn/DOT) has terminated the EIS process begun in 2000 to address transportation demand, safety problems, access management, interregional corridor status, design deficiencies and pavement condition on TH 169 from the intersection of TH 27 north of Onamia, Mille Lacs County, Minnesota to the Garrison, Crow Wing County, Minnesota. The Draft EIS for the project was approved on January 25, 2002 and included five build alternatives and the no-build alternative. On May 11, 2006, Mn/DOT notified federal, state and local agencies; tribal governments; interested parties; and the public that work on the EIS was being discontinued due to a lack of identified funding for any of the build alternatives. Mn/DOT will proceed with implementing more affordable and timely safety improvements on existing TH 169. Therefore, the EIS for this project has been terminated.

(Catalog of Federal Domestic Assistance Program Number 20.205, Highway Planning and Construction. The regulations implementing Executive Order 12372 regarding intergovernmental consultation on Federal programs and activities apply to this program.)

Issued on: June 27, 2008.
Cheryl B. Martin,
Environmental Engineer, Federal Highway Administration, St. Paul, Minnesota.

[FR Doc. E8-15190 Filed 7-7-08; 8:45 am]

BILLING CODE 4910-22-M